ENVIRONMENTAL PROTECTION AGENCY

[Petition Vl-2014-10; FRL-9955-61-Region 9]

Clean Air Act Operating Permit Program; Petition for Objection to State Operating Permit for Hu Honua Bioenergy Facility, LLC; Pepeekeo, Hawaii

AGENCY: United States Environmental Protection Agency (EPA).

ACTION: Notice of final order on petition to object to a state operating permit.

SUMMARY: Pursuant to Clean Air Act (CAA or Act), the EPA Administrator signed an Order, dated September 14, 2016, denying a petition to object to a CAA title V operating permit proposed by the Clean Air Branch, Environmental Management Division, Hawaii Department of Health (HDOH) for the Hu Honua Bioenergy Facility, LLC (Hu Honua) in Pepeekeo, Hawaii. The Order constitutes a final action on the petition submitted by the Law Office of Marc Chytilo, on behalf of Preserve Pepeekeo Health & Environment (Petitioner), on September 15, 2014 (Petition). A petitioner may seek judicial review in the United States Court of Appeals for the appropriate circuit of those portions of the petition which EPA denied. Any petition for review shall be filed within 60 days from the date this notice appears in the Federal Register.

ADDRESSES: Copies of the Order, the Petition, and all pertinent information relating thereto are on file at the following location: EPA Region 9; Air Division; 75 Hawthorne Street; San Francisco, California 94105.

FOR FURTHER INFORMATION CONTACT: Gerardo Rios, Section Chief, Air Permits Office, EPA Region 9, at (415) 972-3974 or rios.gerardo@epa.gov.

SUPPLEMENTARY INFORMATION: The CAA affords the EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or the grounds for the issues arose after this period.

On September 15, 2014, the EPA received a Petition dated September 13, 2014, pursuant to section 505(b)(2) of the CAA, 42 U.S.C. 7661d(b)(2), and 40 CFR 70.8(d). The Petition requested that the EPA object to the title V operating permit proposed on March 14, 2014 by HDOH, for the Hu Honua Bioenergy Facility, which is an electricity generating facility that consists primarily of a single biomass-fired steam boiler. On February 18, 2016, HDOH issued a final permit for Hu Honua, identified as Amendment of Covered Source Permit Number 0724-01-C, pursuant to Hawaii's Administrative Rules at Title 11, Chapter 60.1, Air Pollution Control.

The Petitioner requested that EPA object to the above referenced permit based on the following ten claims: (1) HDOH has failed to satisfy the public participation requirements of the Act, title V regulations, and state law; (2) permit limitations for criteria pollutants are not practically enforceable; (3) emissions limitations for hazardous air pollutants (HAPs) are not federally or practically enforceable; (4) emissions factors for HAPs are unacceptable; (5) the permit does not explicitly preclude affirmative defenses; (6) the monitoring report requirements are not practically enforceable; (7) there is no requirement for monitoring, recording, and reporting flow meter data; (8) special condition E6 concerning semi-annual reporting is ambiguous; (9) the permit fails to address greenhouse gas emissions; and (10) HDOH failed to estimate emissions from malfunction or upset conditions.

On September 14, 2016, the Administrator issued an Order denying each of the claims raised in the Petition. The Order explains the EPA's rationale for denying the petition. No modification or replacement of the above referenced permit is required as a result of this Order.

Dated: November 3, 2016.
Elizabeth Adams,
Acting Director, Air Division, Region IX.

[FR Doc. 2016-28268 Filed 11-22-16; 8:45 am]

BILLING CODE 6560-50-P